DEPARTMENT OF HEALTH AND HUMAN SERVICES

Health Resources and Services Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages.

Dates and Times: September 12, 2005, 8:30 a.m.-5:30 p.m.; September 13, 2005, 8:30 a.m.-5:30 p.m.; September 14, 2005, 8:30 a.m.-3:00 p.m.

Place: Crowne Plaza National Airport, 1480 Crystal Drive, Arlington, Virginia 22202. Telephone (703) 416-1600.

Status: The meeting will be open to the public.

Agenda: Agenda items will include, but not be limited to: Welcome; plenary session on Interdisciplinary Education, specifically the best practices and components of currently funded project as well as hearing testimony from experts in health professions community. The Committee has developed questions to help them focus on the best advice and recommendations to provide to the Secretary and Congress.

The following topics will be addressed at the meeting:

What are effective interdisciplinary training programs and how are they achieved?

How could these programs be enhanced in the future to meet the needs of future employers and the health care system generally?

Proposed agenda items are subject to change as priorities dictate.

Public Comments: Public comments will be permitted at the end of the Committee meeting on September 13, 2005, and before lunch on September 14, 2005. Oral presentations will be limited to 5 minutes per public speaker. Persons interested in providing an oral presentation should submit a written request, with a copy of their presentation to Vanessa Sincock, Public Health Fellow, Division of State, Community and Public Health, Bureau of Health Professions, Health Resources and Services Administration, Room 8A-19, 5600 Fishers Lane, Rockville, MD 20857, telephone (301) 443-3460.

Requests should contain the name, address, telephone number, and any business or professional affiliation of the person desiring to make an oral presentation. Groups having similar interests are requested to combine their comments and present them through a single representative. The Division of State, Community and Public Health will notify each presenter by mail or telephone of their assigned presentation time.

Persons who do not file a request in advance for a presentation, but wish to make an oral statement may register to do so at the Crowne Plaza National Airport, Arlington, VA, on September 13, 2005. These persons will be allocated time as the Committee meeting agenda permits.

For Further Information Contact: Anyone requiring information regarding the Committee should contact Vanessa Sincock, Division of State, Community and Public Health, Bureau of Health Professions, Health Resources and Services Administration, Room 8A-19, 5600 Fishers Lane, Rockville, MD 20857, Telephone (301) 443-3460.

Dated: August 15, 2005.
Tina M. Cheatham,
Director, Division of Policy Review and Coordination.

[FR Doc. 05-16501 Filed 8-19-05; 8:45 am]

BILLING CODE 4165-15-P